DEPARTMENT OF JUSTICE

Notice of Lodging of Consent Decree Pursuant to the Comprehensive Environmental Response, Compensation and Liability Act

In accordance with 28 CFR 50.7 and section 122 of the Comprehensive Environmental Response, Compensation and Liability Act (“CERCLA”), 42 U.S.C. 9622, the Department of Justice gives notice that a proposed consent decree, in United States v. Lockheed Martin Corporation, et al., Civil No. 4:02CV-146-M (W.D. Ky.), was lodged with the United States District Court for the Western District of Kentucky on July 26, 2002, pertaining to the Green River Landfill Superfund Site located in Maceo, Daviess County, Kentucky (the “Site”). The proposed consent decree would resolve the United States' civil claims under sections 106 and 107 of CERCLA, 42 U.S.C. 9606 and 9607, and section 7003 of the Solid Waste Disposal Act, as amended (“RCRA”), 42 U.S.C. 6973, including Natural Resource Damages, against the Settling Defendants: 15 generators and a current owner of a portion of the Site. The proposed consent decree also resolves claims against a Settling Federal Agency.

Under the proposed consent decree, 10 Settling Defendants (“Settling Performing Parties”), are obligated to finance and perform any remaining work at the Site for Operable Unit 1, principally operation and maintenance (“O&M”)—obligations initially imposed by a Unilateral Administrative Order (“UAO”) issued by U.S. Environmental Protection Agency (“U.S. EPA”) in 1996—perform the remedial design/remedial action for Operable Unit 2 (estimated total present value of all response actions to be undertaken under the Decree: $3.7 million), and pay all Future Response Costs at the Site not inconsistent with the National Contingency Plan, excluding the first $307,449 of Future Oversight Costs to be incurred by the United States. Six Settling Defendants (“Settling Non-Performing Parties”) are obligated to pay monies to the Settling Performing Parties for costs incurred and to be incurred for response actions at the Site. In addition, the United States, on behalf of the Settling Federal Agency, would pay $155,000 to the Settling Performing Parties in reimbursement of the Settling Performing Parties' response costs incurred and to be incurred at the Site.

The Department of Justice will receive, for a period of thirty (30) days from the date of this publication, comments relating to the proposed consent decree. Comments should be addressed to the Assistant Attorney General, Environment and Natural Resources Division, United States Department of Justice, Washington, DC 20530, and should refer to United States v. Lockheed Martin Corporation, et al., Civil No. 4:02CV-146-M (W.D. Ky.), and DOJ Reference No. 90-11-2-1098. Commenters may request an opportunity for a public meeting in the affected area, in accordance with section 7003(d) of RCRA, 42 U.S.C. 6973(d).

The proposed consent decree may be examined at: (1) The Office of the United States Attorney for the Western District of Kentucky, 510 West Broadway, 10th Floor, Louisville, Kentucky 40202, (502-582-5911); and (2) the United States Environmental Protection Agency (Region 4), 61 Forsyth Street, Atlanta, Georgia 30303 (contact: Lucia Mendez (404-562-9637)). A copy of the proposed consent decree may be obtained by mail from the Consent Decree Library, U.S. Department of Justice, PO Box 7611, Washington, DC 20044-7611. In requesting a copy, please refer to the referenced case and DOJ Reference Number and enclose a check in the amount of $26.75 for the consent decree only (107 pages, at 25 cents per page reproduction costs), or $126.75 for the consent decree and all appendices (507 pages), made payable to the Consent Decree Library.

Ellen M. Mahan,
Assistant Chief, Environmental Enforcement Section, Environment and Natural Resources Division.

[FR Doc. 02-20034 Filed 8-7-02; 8:45 am]

BILLING CODE 4410-15-M